DEPARTMENT OF TRANSPORTATION

Federal Aviation Administration

14 CFR Part 39

[Docket No. 98-ANE-39-AD; Amendment 39-12668; AD 2002-04-11]

RIN 2120-AA64

Airworthiness Directives; General Electric Company GE90 Series Turbofan Engines; Correction

AGENCY: Federal Aviation Administration, DOT.

ACTION: Final rule; correction.

SUMMARY: This document makes a correction to Airworthiness Directive (AD) 2002-04-11 applicable to General Electric Company GE90 series turbofan engines that was published in the Federal Register on March 4, 2002 (67 FR 9582). The Table in the regulatory text section is incorrect. This document corrects that Table. In all other respects, the original document remains the same.

EFFECTIVE DATE: April 8, 2002.

FOR FURTHER INFORMATION CONTACT: Ian Dargin, Aerospace Engineer, Engine Certification Office, FAA, Engine and Propeller Directorate, 12 New England Executive Park, Burlington, MA 01803-5299; telephone (781) 238-7178, fax (781) 238-7199.

SUPPLEMENTARY INFORMATION: A final rule airworthiness directive (FR Doc. 02-5003) applicable to General Electric Company GE90 series turbofan engines, was published in the Federal Register on March 4, 2002 (67 FR 9582). The following corrections are needed:

§ 39.13 [Corrected]

1. On page 9583, in the third column entitled, Inspect per engine manual chapter, in the third entry, (HPCR, Disk, Stage 7) “72-31-07-200-001-001 Fluorescent Penetrant Inspection (subtask 72-31-07-230-051), and 72-31-07-200-001-001 Eddy Current Inspection (subtask 72-31-07-250-051 or 72-31-07-230-052 or 72-31-07-230-053” is corrected to read “72-31-07-200-001-001 Fluorescent Penetrant Inspection (subtask 72-31-07-230-051), and 72-31-07-200-001-001 Eddy Current Inspection of the Rim Boltholes (subtask 72-31-07-250-051 or 72-31-07-250-052 or 72-31-07-250-053”.

2. On the same page, in the same column entitled, Inspect per engine manual chapter, in the nineth entry, (HPTR Disk, Stage 1) “72-53-02-200-001-002 Fluorescent Penetrant Inspection (subtask 72-53-02-160-051), and 72-53-02-200-001-002 Eddy Current Inspection of the Bore “ is corrected to read “72-53-02-200-001-002 Fluorescent Penetrant Inspection (subtask 72-53-02-230-052), and 72-53-02-200-001-002 Eddy Current Inspection of the Bore”.

Issued in Burlington, MA, on April 18, 2002.
Francis A. Favara,
Acting Manager, Engine and Propeller Directorate, Aircraft Certification Service.

[FR Doc. 02-10273 Filed 4-26-02; 8:45 am]

BILLING CODE 4910-13-P